DEPARTMENT OF ENERGY

Federal Energy Regulatory Commission

Combined Notice of Filings

March 31, 2008.

Take notice that the Commission has received the following Natural Gas Pipeline Rate and Refund Report filings:

Docket Numbers: RP96-200-186.

Applicants: CenterPoint Energy Gas Transmission Company.

Description: CenterPoint Energy Gas Transmission Company submits an amended negotiated rate agreement with Constellation Energy Commodities Group, Inc.

Filed Date: 03/27/2008.

Accession Number: 20080328-0076.

Comment Date: 5 p.m. Eastern Time on Tuesday, April 08, 2008.

Docket Numbers: RP03-36-030.

Applicants: Dauphin Island Gathering Partners.

Description: Dauphin Island Gathering Partners submits its Thirty-Sixth Revised Sheet 9 et al. to FERC Gas Tariff, First Revised Volume 1.

Filed Date: 03/26/2008.

Accession Number: 20080328-0082.

Comment Date: 5 p.m. Eastern Time on Monday, April 07, 2008.

Docket Numbers: RP08-123-001, RP07-499-003, RP07-498-003 (Not Consolidated).

Applicants: Central Kentucky Transmission Company.

Description: Central Kentucky Transmission Company submits their request that FERC approve a change in the effective date to June 1, 2008 for certain tariff sheets.

Filed Date: 03/26/2008.

Accession Number: 20080328-0078.

Comment Date: 5 p.m. Eastern Time on Monday, April 07, 2008.

Docket Numbers: RP08-124-001, RP07-508-003, RP07-500-004, RP07-478-004, RP07-415-001, RP07-412-004, RP07-174-004 (Not Consolidated).

Applicants: Columbia Gulf Transmission Company.

Description: Columbia Gulf Transmission Company's request that the FERC approve a change in the effective date to June 1, 2008 for certain tariff sheets.

Filed Date: 03/26/2008.

Accession Number: 20080328-0081.

Comment Date: 5 p.m. Eastern Time on Monday, April 07, 2008.

Docket Numbers: RP08-125-001, RP07-515-003, RP07-497-003, (Not Consolidated).

Applicants: Crossroads Pipeline Company.

Description: Crossroad Pipeline Company's request that the FERC approve a change in the effective date to June 1, 2008 for certain tariff sheets.

Filed Date: 03/26/2008.

Accession Number: 20080328-0080.

Comment Date: 5 p.m. Eastern Time on Monday, April 07, 2008.

Docket Numbers: RP08-127-001, RP08-110-001, RP07-509-004, RP07-479-004, RP07-414-003, RP07-413-004, RP07-340-005, (Not Consolidated).

Applicants: Columbia Gas Transmission Corporation.

Description: Columbia Gas Transmission Corporation's request that the FERC approve a change in the effective date to June 1, 2008 for certain tariff sheets.

Filed Date: 03/26/2008.

Accession Number: 20080328-0079.

Comment Date: 5 p.m. Eastern Time on Monday, April 07, 2008.

Docket Numbers: RP08-218-001.

Applicants: Gulfstream Natural Gas System, L.L.C.

Description: Gulfstream Natural Gas System LLC submits Original Sheet 8.02i and 8.02j to FERC Gas Tariff, Original Volume 1, to become effective March 26, 2008.

Filed Date: 03/27/2008.

Accession Number: 20080328-0132.

Comment Date: 5 p.m. Eastern Time on Tuesday, April 08, 2008.

Docket Numbers: RP08-283-000.

Applicants: Maritimes & Northeast Pipeline, L.L.C.

Description: Maritimes & Northeast Pipeline, LLC submits Second Revised Sheet 400 et al. to FERC Gas Tariff, First Revised Volume 1, to become effective April 27, 2008.

Filed Date: 03/27/2008.

Accession Number: 20080328-0077.

Comment Date: 5 p.m. Eastern Time on Tuesday, April 08, 2008.

Docket Numbers: RP08-284-000.

Applicants: Pine Needle LNG Company, LLC.

Description: Pine Needle LNG Company LLC submits Fifteenth Revised Sheet 4 to its FERC Gas Tariff, Original Volume 1, to become effective May 1, 2008.

Filed Date: 03/27/2008.

Accession Number: 20080328-0113.

Comment Date: 5 p.m. Eastern Time on Tuesday, April 08, 2008.

Docket Numbers: RP08-287-000.

Applicants: Rockies Express Pipeline LLC.

Description: Annual Incidental Purchases and Sales Report of Rockies Express Pipeline LLC.

Filed Date: 03/28/2008.

Accession Number: 20080328-5093.

Comment Date: 5 p.m. Eastern Time on Wednesday, April 09, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-7017 Filed 4-3-08; 8:45 am]

BILLING CODE 6717-01-P